CONSUMER PRODUCT SAFETY COMMISSION

16 CFR Chapter II

[Docket No. CPSC-2018-0014]

Resubmission of Petition To Mandate a Uniform Labeling Method for Traction of Floor Coverings, Floor Coverings With Coatings, and Treated Floor Coverings; Request for Comments

AGENCY: Consumer Product Safety Commission.

ACTION: Notification of petition for rulemaking.

SUMMARY: The U.S. Consumer Product Safety Commission (CPSC) received a resubmitted petition from the National Floor Safety Institute (petitioner or NFSI), requesting that the agency require manufacturers of floor coverings and coatings to label their products and provide point of purchase information regarding slip-resistance, using the American National Standards Institute (ANSI) B101.5-2014 Standard Guide for Uniform Labeling Method for Identifying the Dynamic Coefficient of Friction (Traction) of Floor Coverings, Floor Coverings with Coatings, and Treated Floor Coverings (ANSI B101.5). The Commission invites written comments concerning this petition.

DATES: Submit comments by August 6, 2018.

ADDRESSES: Submit comments, identified by Docket No. CPSC-2018-0014, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written comments by mail/hand delivery/courier to: Office of the Secretariat, Consumer Product Safety Commission, Room 820, 4330 East West Highway, Bethesda, MD 20814; telephone (301) 504-7923.

Instructions: All submissions received must include the agency name and docket number for this notice. All comments received may be posted without change to http://www.regulations.gov, including any personal identifiers, contact information, or other personal information provided. Do not submit confidential business information, trade secret information, or other sensitive or protected information that you do not want to be available to the public. If furnished at all, such information should be submitted by mail/hand delivery/courier.

Docket: For access to the docket to read background documents or comments received, go to: http://www.regulations.gov, insert docket number CPSC-2018-0014 into the “Search” box, and follow the prompts.

FOR FURTHER INFORMATION CONTACT: Rocky Hammond, Office of the Secretary, Consumer Product Safety Commission, 4330 East West Highway, Bethesda, MD 20814; telephone: 301-504-6833; email: RHammond@cpsc.gov.

SUPPLEMENTARY INFORMATION: On April 19, 2018, NFSI submitted a petition, docketed as CP 18-2, requesting that the Commission require manufacturers of floor coverings and coatings to label their products, and provide point-of-purchase information regarding slip-resistance, using the ANSI B101.5 voluntary standard. NFSI's petition request is a resubmission of a prior petition (CP 16-1), which the Commission voted to deny.¹ The resubmitted petition contains certain modifications and additional information.

¹ December 13, 2016 Record of Commission Action, available at: https://www.cpsc.gov/s3fs-public/RCA%20-%20Petition%20CP%2016-1%20Labeling%20Requirements%20Regarding%20Slip-Resistance%20of%20Floor%20Coverings%20121316.pdf.

As with the previous petition, NFSI states that it seeks to reduce injuries and fatalities related to consumer slips and falls, particularly involving the elderly, by requesting CPSC to mandate that floor coverings for sale to consumers be labeled to provide information about the traction of each product. NFSI states that different types of floor coverings have wide ranging differences in slip-resistance, which can make certain types of flooring inappropropriate for a specific use. NFSI contends that currently, consumers have no uniform information to compare differences in traction with various floor covering options. NFSI states that the labeling it urges is easy to understand and will benefit consumers, particularly the elderly, by informing consumers of the traction or safety of the products at the point of sale.

Responding to commenters' and the Commission's concerns regarding the previous petition (CP 16-1), NFSI made modifications to the current petition request and provided additional information to support its petition for rulemaking. By this notice, the Commission seeks comments concerning this renewed petition, including whether the modifications and additional information provided by NFSI address the concerns set forth in the Commission's January 19, 2017 letter to NFSI denying petition CP 16-1.² In particular, the Commission seeks comment on the petitioner's proposed method for determining wet dynamic coefficient of friction, and whether such method is accurate and repeatable on all hard surfaces that would be subject to the proposed labeling.

² January 18, 2017 Record of Commission Action and January 19, 2017 Letter to Russell J. Kendzior, President and Chairman of the Board, National Floor Safety Institute, available at: https://www.cpsc.gov/s3fs-public/RCA%20-%20Draft%20Letter%20to%20Petitioner%20Regarding%20Denial%20of%20Petition%20CP%2016-1%20Floor%20Coverings%20011817.pdf.

The petition is available at: http://www.regulations.gov, under Docket No. CPSC-2018-0014, Supporting and Related Materials. Alternatively, interested parties may obtain a copy of the petition by writing or calling the Office of the Secretariat, Consumer Product Safety Commission, 4330 East West Highway, Bethesda, MD 20814; telephone (301) 504-6833.

Alberta E. Mills,
Secretary, Consumer Product Safety Commission.

[FR Doc. 2018-12074 Filed 6-5-18; 8:45 am]

BILLING CODE 6355-01-P